DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold a meeting on Wednesday, July 20, 2022, from 8:30 a.m. to 3:30 p.m. The portion of the meeting from 8:30 a.m. to 11:30 a.m. will be closed to the public. The portion of the meeting from 11:40 a.m. to 3:30 p.m. will be open to the public.

ADDRESSES: The RFPB meeting address is the Pentagon Library and Conference Center, Room B6, Arlington, VA.

FOR FURTHER INFORMATION CONTACT: Alexander Sabol, (703) 681-0577 (voice), 703-681-0002 (facsimile), Alexander.J.Sabol.Civ@Mail.Mil (email). Mailing address is Reserve Forces Policy Board, 5109 Leesburg Pike, Suite 501, Falls Church, VA 22041. Website: http://rfpb.defense.gov/.

SUPPLEMENTARY INFORMATION: Due to circumstances beyond the control of the Designated Federal Officer, the Reserve Forces Policy Board was unable to provide notification required by 41 CFR 102-3.150(a) concerning its July 20, 2022 meeting. Accordingly, the Advisory Committee Management Officer (ACMO) for the Department of Defense, pursuant to 41 CFR 102-3.150(b), waives the 15-calendar day notification requirement. This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:30 a.m. to 3:30 p.m. The portion of the meeting from 8:30 a.m. to 11:30 a.m. will be closed to the public and will consist of remarks to the RFPB from following invited speakers: the Secretary of Defense (SecDef) will address key National Defense Military Strategy challenges facing our Nation and priorities for adapting the Total Force with the integration of the Reserve Components; the Under Secretary of Defense for Personnel and Readiness (USD P&R) will discuss his provided guidance for Office of the Secretary of Defense (Personnel & Readiness) with its effects on the oversight of Reserve Component policies and programs, his views on key Reserve Component challenges, and the overall DoD force readiness; the executive performing the duties of the Assistant Secretary of Defense for Manpower & Reserve Affairs will discuss his guidance to the Office of Manpower and Reserve Affairs, its oversight of Reserve Component policies and programs, and his views on key Reserve Component readiness challenges for the Total Force Integration; the Deputy Assistant Secretary of Defense for Reserve Integration will address current Reserve Component programs, challenges, and readiness issues within Reserve Integration and the Total Force Integration; the Senior Advisor to the Principal Deputy Under Secretary of Defense for Manpower and Reserve Affairs will address current Reserve Component personnel programs, challenges and readiness issues within Military Personnel Policy and the Total Force Integration; and the Chair will address matters pertaining to the capabilities and use of the Reserve Components as a part of the Total Force and will define a focused business case on proposed areas received from this meeting's discussions to be presented to the SecDef and the Sponsor, USD(P&R) for approval in their tasking to support future decisions.

The portion of the meeting from 11:40 a.m. to 3:30 p.m. will be open to the public and will consist of Subcommittee Break-out Sessions with the Subcommittee for Integration of Total Force Personnel Policy, the Subcommittee for the Reserve Components' Role in Homeland Defense and Support to Civil Authorities, and the Subcommittee for Total Force Integration conducting discussions on the subcommittees' priorities and focus areas received from the meeting's discussions and other areas where the RFPB can use its role to best provide recommended support to the taskings of the Secretary of Defense and the Sponsor, USD(P&R). The Subcommittee Chairs will then submit their Subcommittees' discussions to the RFPB and provide proposed recommendations to be presented to the SecDef and the Sponsor, USD(P&R), for approval of RFPB taskings to support their future decisions. The meeting will conclude with the Designated Federal Officer's and Chair's closing remarks.

Meeting Accessibility: Pursuant to section 10(a)(1) of the FACA and 41 CFR 102-3.140 through 102-3.165, and subject to the availability of space, the meeting is open to the public from 11:40 a.m. to 3:30 p.m. Seating is on a first-come basis. All members of the public who wish to attend the public meeting must contact Mr. Alex Sabol, the Designated Federal Officer, no later than 12:00 p.m. on Monday, July 18, 2022, as listed in the FOR FURTHER INFORMATION CONTACT section to make arrangements for a Pentagon escort, if necessary. Public attendees requiring escort should arrive at the Pentagon Metro Entrance at 11:00 a.m. to provide sufficient time to complete security screening to attend the beginning of the Open Meeting at 11:40 a.m. on July 20th. To complete the security screening, please be prepared to present two forms of identification. One must be a picture identification card. In accordance with section 10(d) of the FACA, 5 U.S.C. 552b(c), and 41 CFR 102-3.155, the DoD has determined that the portion of this meeting scheduled to occur from 8:30 a.m. to 11:30 a.m. will be closed to the public. Specifically, the USD(P&R), in coordination with the DoD FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: July 14, 2022.
Aaron T. Siegel,
Alternate OSD Federal Register Liaison Officer, Department of Defense.

[FR Doc. 2022-15396 Filed 7-18-22; 8:45 am]

BILLING CODE 5001-06-P